DEPARTMENT OF TRANSPORTATION

National Highway Traffic Safety Administration

Announcing the Second Quarterly Meeting of the Crash Injury Research and Engineering Network

AGENCY: National Highway Traffic Safety Administration (NHTSA), DOT.

ACTION: Meeting announcement.

SUMMARY: This notice announces the Second Quarterly Meeting of members of the Crash Injury Research and Engineering Network. CIREN is a collaborative effort to conduct research on crashes and injuries at nine Level 1 Trauma Centers which are linked by a computer network. Researchers can review data and share expertise, which could lead to a better understanding of crash injury mechanisms and the design of safer vehicles.

DATE AND TIME: The meeting is scheduled from 8:30 a.m. to 5 p.m. on July 21, 2000.

ADDRESSES: The meeting will be held in Room 6200-04 of the U.S. Department of Transportation Building, which is located at 400 Seventh Street, S.W., Washington, DC.

SUPPLEMENTARY INFORMATION: The CIREN System has been established and crash cases have been entered into the database by each Center. NHTSA has held three Annual Conferences (two in Detroit and one in conjunction with STAPP in San Diego) where CIREN research results were presented. Further information about the three previous CIREN conferences is available through the NHTSA website at: http://www-nrd.nhtsa.dot.gov/bio_and_trauma/ciren-final.htm. NHTSA held the first quarterly meeting on May 5, 2000, with a topic of lower extremity injuries in motor vehicle crashes. Information from the May 5 meeting is also available through the NHTSA website.

NHTSA plans to continue holding quarterly meetings on a regular basis to disseminate CIREN information to interested parties. This is the second such meeting. The topic for this meeting is motor vehicle side impact crashes. Subsequent meetings have tentatively been scheduled for October 2000 and January 2001. These quarterly meetings will be in lieu of an annual CIREN conference.

FOR FURTHER INFORMATION CONTACT: Mrs. Donna Stemski, Office of Human-Centered Research, 400 Seventh Street, S.W., Room 6206, Washington, DC 20590, telephone: (202) 366-5662.

Issued on: June 14, 2000
Raymond P. Owings,
Associate Administrator for Research and Development, National Highway Traffic Safety Administration.

[FR Doc. 00-16387 Filed 6-27-00; 8:45 am]

BILLING CODE 4910-59-P